DEPARTMENT OF COMMERCE

Foreign-Trade Zones Board

[B-13-2016]

Foreign-Trade Zone (FTZ) 141—Monroe County, New York; Notification of Proposed Production Activity; Xerox Corporation; Subzone 141B (Bulk Toner, Toner Cartridges and Photoreceptors); Webster, New York

The County of Monroe, New York, grantee of FTZ 141, submitted a notification of proposed production activity to the FTZ Board on behalf of Xerox Corporation (Xerox) located within Subzone 141B in Webster, New York. The notification conforming to the requirements of the regulations of the FTZ Board (15 CFR 400.22) was received on March 7, 2016.

The Xerox facility is used for the production of bulk toner, toner cartridges and photoreceptors. Pursuant to 15 CFR 400.14(b), FTZ activity would be limited to the specific foreign-status materials and components and specific finished products described in the submitted notification (as described below) and subsequently authorized by the FTZ Board.

Production under FTZ procedures could exempt Xerox from customs duty payments on the foreign-status materials/components used in export production. On its domestic sales, Xerox would be able to choose the duty rates during customs entry procedures that apply to bulk toner, toner cartridges and photoreceptors (duty rates range from free to 6.5%) for the foreign-status inputs noted below. Customs duties also could possibly be deferred or reduced on foreign-status production equipment.

The components and materials sourced from abroad include: Strontium titanate; zinc stearate; titanium dioxide; silicon dioxide; polytetrafluoroethylene (PTFE); polymethylmethacrylate; bulk toner; polycarbonate resin; and tri-aryl amine (duty rates range from 3.7% to 6.5%).

Public comment is invited from interested parties. Submissions shall be addressed to the FTZ Board's Executive Secretary at the address below. The closing period for their receipt is April 27, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: March 10, 2016.
Andrew McGilvray,
Executive Secretary.

[FR Doc. 2016-06173 Filed 3-17-16; 8:45 am]

BILLING CODE 3510-DS-P